DEPARTMENT OF DEFENSE

Department of the Air Force

Notice of Adoption of Categorical Exclusions Under the National Environmental Policy Act; Correction

AGENCY: Department of the Air Force, Department of Defense.

ACTION: Notice of adoption of categorical exclusions; correction.

SUMMARY: This document corrects the description for five categorical exclusions (CATEXes) adopted by the Department of the Air Force through posting in the Federal Register on 25 November 2024.

FOR FURTHER INFORMATION CONTACT: Mr. Jack Bush, DAF NEPA Policy and Execution Oversite, 703-695-1773, af.a4c.nepaworkflow@us.af.mil.

SUPPLEMENTARY INFORMATION:

Correction

In the Federal Register of November 25, 2024, in FR Doc. 2024-27545, on pages 92912 and 92913, the following corrections are made:

On page 92912 in the third column for DON CATEX (f)(27), the word “like” is corrected to “similar to” in the sentence.

On page 92912 in the third column for DON CATEX (f)(33), the word “like” is corrected to “similar to” in the first sentence.

On page 92913 in the second column, NASA CATEX (d)(2)(i) is revised to read: “(d)(2)(i) Routine maintenance, minor construction or rehabilitation, minor demolition, minor modification, minor repair, and continuing or altered operations at, or of, existing NASA or NASA-funded or -approved facilities and equipment, such as buildings, roads, grounds, utilities, communication systems, and ground support systems (e.g., space tracking and data systems). This includes routine operations such as security, public health and safety, and environmental services.”

On page 92913 in the second column, NASA CATEX (d)(3)(i) is revised to read: “(d)(3)(i) Research, development, testing, and evaluation in compliance with all applicable Federal, state, Tribal, or local laws or requirements and Executive Orders. This includes the research, development, testing, and evaluation of scientific instruments proposed for use on spacecraft, aircraft (including unmanned aircraft systems), sounding rockets, balloons, laboratories, watercraft, or other outdoor activities.”

On page 92913 in the second column, NASA CATEX (d)(3)(iii) is revised to read: “(d)(3)(iii) Use of lasers for research and development, scientific instruments and measurements, and distance and ranging, where such use meets all applicable Federal, state, Tribal, or local laws or requirements and Executive orders. This includes lasers associated with spacecraft, aircraft (including unmanned aircraft systems), sounding rockets, balloons, laboratories, watercraft, or other outdoor activities.”

Tommy W. Lee,
Acting Air Force Federal Register Liaison Officer.

[FR Doc. 2024-29352 Filed 12-12-24; 8:45 am]

BILLING CODE 3911-44-P